DEPARTMENT OF STATE

[Public Notice: 10280]

U.S. Department of State Cuba Internet Task Force; Notice of Open Meeting

The U.S. Department of State will conduct a public meeting for the Cuba internet Task Force, Wednesday, February 7, 2018, from 10:30 a.m. until 12:00 p.m. at the Harry S. Truman Building, 2201 C Street NW, Room 1406.

In accordance with the National Security Presidential Memorandum of June 16, 2017, on Strengthening the Policy of the United States Toward Cuba (NSPM-5), the Department of State created the Cuba internet Task Force and is announcing the date of its first public meeting. The Cuba internet Task Force is composed of U.S. Government and non-government representatives to examine technological challenges and opportunities for expanding internet access in Cuba.

Those wishing to attend must RSVP due to limited seating. Anyone wishing to attend must contact the Department's Office of the Coordinator for Cuban Affairs, Gilberto Torres-Vela at 202-647-7050 or email WHACCAEconomicUnit@state.gov and provide your name, organization and email address no later than February 2, 2018. Any request for reasonable accommodation must be made prior to February 2, 2018, to the same email address. Requests made after that date will be considered, but might not be possible to fulfill.

Gabriel Escobar,
Coordinator for Cuban Affairs, Department of State.

[FR Doc. 2018-01038 Filed 1-19-18; 8:45 am]

BILLING CODE 4710-29-P